DEPARTMENT OF COMMERCE

International Trade Administration

[C-570-984]

Drawn Stainless Steel Sinks From the People's Republic of China: Rescission of Countervailing Duty Administrative Review; 2016

AGENCY: Enforcement and Compliance, International Trade Administration, Department of Commerce.

SUMMARY: The Department of Commerce is rescinding the administrative review of the countervailing duty order on drawn stainless steel sinks from the People's Republic of China for the period of review January 1, 2015, through December 31, 2015, based on the timely withdrawal of requests for review.

DATES: Effective September 23, 2016.

FOR FURTHER INFORMATION CONTACT: Sergio Balbontin, AD/CVD Operations, Office I, Enforcement and Compliance, International Trade Administration, U.S. Department of Commerce, 1401 Constitution Avenue NW., Washington, DC 20230; telephone: (202) 482-6478.

SUPPLEMENTARY INFORMATION:

Background

On April 1, 2016, the Department (the Department) published the notice of opportunity to request an administrative review of the countervailing duty order on drawn stainless steel sinks (sinks) from the People's Republic of China (PRC) for the period of review (POR) January 1, 2015, through December 31, 2015.¹ On April 28, 2016, Zhongshan Superte Kitchenware Co., Ltd. (Superte) requested an administrative review of its POR sales.² On April 29, 2016, Guangdong Yingao Utensils Co., Ltd. (Yingao), Guangdong Dongyuan Kitchenware Industrial Co., Ltd. (Dongyuan), and Jiangmen New Star Hi-Tech Enterprise Ltd. (New Star) requested an administrative review of their POR sales.³ On June 6, 2016, in accordance with 19 CFR 351.221(c)(1)(i), the Department published a notice initiating an administrative review of Superte, Yingao, Dongyuan, and New Star.⁴ New Star and Yingao withdrew their requests for an administrative review on June 16, 2016.⁵ Dongyuan and Superte withdrew their requests for an administrative review on August 22, 2016, and August 25, 2016, respectively.⁶

¹ See Antidumping or Countervailing Duty Order, Finding, or Suspended Investigation; Opportunity to Request Administrative Review, 81 FR 18826 (April 1, 2016).

² See Letter from Superte, “Drawn Stainless Steel Sinks from China; Administrative Review Request,” dated April 28, 2016.

³ See Letters from Yingao, “Drawn Stainless Steel Sinks from the People's Republic of China Request for Administrative Review,” Dongyuan, “Drawn Stainless Steel Sinks from the People's Republic of China Request for Administrative Review,” and New Star, “Drawn Stainless Steel Sinks from the People's Republic of China Request for Administrative Review,” dated April 29, 2016.

⁴ See Initiation of Antidumping and Countervailing Duty Administrative Reviews, 81 FR 36268 (June 6, 2016).

⁵ See Letters from New Star, “Drawn Stainless Steel Sinks from the People's Republic of China: Withdrawal of Request for Annual Administrative Review,” and Yingao, “Drawn Stainless Steel Sinks from the People's Republic of China: Withdrawal of Request for Annual Administrative Review,” dated June 16, 2016.

⁶ See Letters from Dongyuan, “Drawn Stainless Steel Sinks from the People's Republic of China: Withdrawal of Request for Countervailing Duty Administrative Review,” dated August 22, 2016, and Superte, “Drawn Stainless Steel Sinks from China; Withdrawal of Administrative Review Request,” dated August 25, 2016.

Rescission of Review

Pursuant to 19 CFR 351.213(d)(1), the Department will rescind an administrative review, in whole or in part, if the party, or parties, that requested a review withdraws the request within 90 days of the publication date of the notice of initiation of the requested review. As noted above, all parties withdrew their requests for review within 90 days of the publication date of the notice of initiation. No other parties requested an administrative review of the order. Therefore, in accordance with 19 CFR 351.213(d)(1), we are rescinding this review.

Assessment

The Department will instruct U.S. Customs and Border Protection (CBP) to assess countervailing duties on all appropriate entries of sinks from the PRC during the POR. Countervailing duties shall be assessed at rates equal to the cash deposit of estimated countervailing duties required at the time of entry, or withdrawal from warehouse, for consumption in accordance with 19 CFR 351.212(c)(1)(i). The Department intends to issue appropriate assessment instructions to CBP 15 days after publication of this notice in the Federal Register.

Notifications to Importers

This notice serves as a final reminder to importers of their responsibility under 19 CFR 351.402(f)(2) to file a certificate regarding the reimbursement of countervailing duties prior to liquidation of the relevant entries during this review period. Failure to comply with this requirement could result in the presumption that reimbursement of countervailing duties occurred and the subsequent assessment of double countervailing duties.

Notification Regarding Administrative Protective Order

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: September 16, 2016.
Christian Marsh,
Deputy Assistant Secretary for Antidumping and Countervailing Duty Operations.

[FR Doc. 2016-22878 Filed 9-22-16; 8:45 am]

BILLING CODE 3510-DS-P